DEPARTMENT OF THE TREASURY

Internal Revenue Service

26 CFR Part 300

[REG-145154-05]

RIN 1545-BF68

User Fees Relating to Enrollment; Correction

AGENCY: Internal Revenue Service (IRS), Treasury.

ACTION: Proposed rule; correction.

SUMMARY: This document contains a correction to a notice of proposed rulemaking (REG-145154-05) that was published in the Federal Register on Tuesday, August 29, 2006 (71 FR 51179) relating to user fees for the special enrollment examination to become an enrolled agent, the application for enrollment of enrolled agents, and the renewal of this enrollment.

FOR FURTHER INFORMATION CONTACT: Matthew Cooper (202) 622-4940 (not a toll-free number).

SUPPLEMENTARY INFORMATION:

Background

The correction notice that is the subject of this document is under section 9701 of Title 31 of the United States Code.

Need for Correction

As published, the notice of proposed rulemaking (REG-145154-05) contains an error that may prove to be misleading and is in need of clarification.

Correction of Publication

Accordingly, the publication of the proposed rulemaking (REG-145154-05), which was the subject of FR Doc. 06-7246, is corrected as follows:

On page 51181, column 1, in the preamble, under the paragraph heading “Comments and Public Hearing”, second paragraph, line 4, the language Bell Street, Crystal City, VA. Due to” is corrected to read “Bell Street, Arlington, VA, 22202. Due to”.

Guy R. Traynor,
Chief, Publications and Regulations Branch, Legal Processing Division, Associate Chief Counsel (Procedure and Administration).

[FR Doc. E6-15118 Filed 9-12-06; 8:45 am]

BILLING CODE 4830-01-P